DEPARTMENT OF STATE

[Delegation of Authority 262]

Office of the Deputy Secretary; Redelegation of Authorities by the Deputy Secretary of State, to the Administrator of the United States Agency for International Development

By the authority vested in me as Deputy Secretary of State, including the authority delegated to me by the Secretary of State in Delegation of Authority No. 245 of April 23, 2001, and by Section 1 of the State Department Basic Authorities Act (22 U.S.C. 2651A), I hereby delegate to the Administrator of the U.S Agency for International Development, to the extent authorized by law, the functions conferred upon the Secretary of State by the President relating to loan guarantees to Israel under chapter 5 of title I of the Emergency Wartime Supplemental Appropriations Act, 2003 (Public Law 108-11).

Notwithstanding this delegation of authority, the Secretary of State or Deputy Secretary of State may exercise any function delegated hereby. The Administrator may, to the extent consistent with law, redelegate such functions and authorize their successive redelegation.

This memorandum shall be published in the Federal Register.

Dated: September 13, 2003.
Richard L. Armitage,
Deputy Secretary of State, Department of State.

[FR Doc. 03-25021 Filed 10-1-03; 8:45 am]

BILLING CODE 4710-10-P